DEPARTMENT OF TRANSPORTATION

Federal Aviation Administration

14 CFR Part 71

[Docket No. FAA-2013-0231; Airspace Docket No. 13-ASW-7]

RIN 2120-AA66

Modification of VOR Federal Airways V-68, V-76, V-194, and V-548 in the Vicinity of Houston, TX

AGENCY: Federal Aviation Administration (FAA), DOT.

ACTION: Final rule, technical amendment.

SUMMARY: This action amends VHF Omnidirectional Range (VOR) Federal airways V-68, V-76, V-194, and V-548 in the vicinity of Houston, TX. The FAA is taking this action to correct the airway descriptions contained in Part 71 to ensure they match the information contained in the FAA's aeronautical database and depicted on the associated aeronautical charts.

DATES: Effective date April 3, 2013. The Director of the Federal Register approves this incorporation by reference action under 1 CFR part 51, subject to the annual revision of FAA Order 7400.9 and publication of conforming amendments.

FOR FURTHER INFORMATION CONTACT: Colby Abbott, Airspace Policy and ATC Procedures Group, Office of Airspace Services, Federal Aviation Administration, 800 Independence Avenue SW., Washington, DC 20591; telephone: (202) 267-8783.

SUPPLEMENTARY INFORMATION:

History

In 1999, the geographic coordinates reference used to describe the Hobby VOR/Distance Measuring Equipment (VOR/DME) navigation aid location changed and was updated in the FAA aeronautical database. However, the associated rulemaking action to amend the Hobby VOR/DME radial listed in the V-68, V-76, V-194, and V-548 descriptions for describing the airway segment between Hobby VOR/DME and Industry VOR Tactical Air Navigation (VORTAC) (V-68 and V-76), and between Hobby VOR/DME and College Station VORTAC (V-194 and V-548) was not accomplished. As a result, the current V-68, V-76, V-194, and V-548 descriptions do not match the airway information contained in the FAA's aeronautical database or the charted depiction of the airways on the aeronautical charts. The aeronautical database and associated charts depict the correct Hobby VOR/DME radial for V-68, V-76, V-194, and V-548. To overcome the conflicting airway description information published in FAA Order 7400.9W (77 FR 50907, August 23, 2012), the FAA is amending the V-68, V-76, V-194, and V-548 descriptions to reflect the correct Hobby VOR/DME radial and match the information contained in the aeronautical database and associated charts.

Accordingly, since this is an administrative change to update the airway's description information to match the information currently contained in the FAA's aeronautical database and published on the associated aeronautical charts, notice and public procedures under Title 5 U.S.C. 553(b) are unnecessary.

The Rule

The FAA amends Title 14 Code of Federal Regulations (14 CFR) part 71 by amending the descriptions of VOR Federal airways V-68, V-76, V-194, and V-548 in the vicinity of Houston, TX. Specifically, the FAA amends V-68 and V-76 to reflect the Hobby VOR/DME 289° radial to define the intersection on the airway segment between the Hobby VOR/DME and the Industry VORTAC, and amends V-194 and V-548 to reflect the Hobby VOR/DME 289° radial to define the intersection on the airway segment between the Hobby VOR/DME and the College Station VORTAC. Correcting the airway descriptions to reflect the correct Hobby VOR/DME radial ensures the descriptions match the information contained in the FAA's aeronautical database and depicted on the associated charts.

VOR Federal airways are listed in paragraph 6010 of FAA Order 7400.9W dated August 8, 2012, and effective September 15, 2012, which is incorporated by reference in 14 CFR 71.1. The VOR Federal airways listed in this document will be revised subsequently in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it amends existing VOR Federal airways in the NAS.

Environmental Review

The FAA has determined that this action qualifies for categorical exclusion under the National Environmental Policy Act in accordance with 311a, FAA Order 1050.1E, “Environmental Impacts: Policies and Procedures.” This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9W, Airspace Designations and Reporting Points, signed August 8, 2012, and effective September 15, 2012, is amended as follows:

Paragraph 6010 VOR Federal airways.

* * * * *

V-68

From Montrose, CO; Cones, CO; Dove Creek, CO; Cortez, CO; Rattlesnake, NM; INT Rattlesnake 128° and Albuquerque, NM, 345° radials; Albuquerque; INT Albuquerque 120° and Corona, NM, 311° radials; Corona; 41 miles 85 MSL, Chisum, NM; Hobbs, NM; Midland, TX; San Angelo, TX; Junction, TX; Center Point, TX; San Antonio, TX; INT San Antonio 064° and Industry, TX, 267° radials; Industry; INT Industry 101° and Hobby, TX, 289° radials; to Hobby.

* * * * *

V-76

From Lubbock, TX; INT Lubbock 188° and Big Spring, TX, 286° radials; Big Spring; San Angelo, TX; Llano, TX; Centex, TX; Industry, TX; INT Industry 101° and Hobby, TX, 289° radials; to Hobby.

* * * * *

V-194

From Cedar Creek, TX; College Station, TX; INT College Station 151° and Hobby, TX, 289° radials; Hobby; Sabine Pass, TX; Lafayette, LA; Baton Rouge, LA; McComb, MS; INT McComb 055° and Meridian, MS; 221° radials; Meridian. From Liberty, NC; Raleigh-Durham, NC; Tar River, NC; Cofield, NC; to INT Cofield 077° and Norfolk, VA, 209° radials.

* * * * *

V-548

From Hobby, TX; INT Hobby 289° and College Station, TX, 151° radials; College Station; INT College Station 307° and Waco, TX, 173° radials; to Waco.

Issued in Washington, DC, March 26, 2013.
Gary A. Norek,
Manager, Airspace Policy and ATC Procedures Group.

[FR Doc. 2013-07472 Filed 4-2-13; 8:45 am]

BILLING CODE 4910-13-P